DEPARTMENT OF COMMERCE

National Oceanic and Atmospheric Administration

[RTID 0648-XA857]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside of scallop regulations in support of funding research under the Scallop Research Set-Aside Program by conducting compensation fishing. Regulations under the Magnuson-Stevens Fishery Conservation and Management Act require publication of this notification to provide interested parties the opportunity to comment on applications for proposed Exempted Fishing Permits.

DATES: Comments must be received on or before March 25, 2021.

ADDRESSES: You may submit written comments by email to nmfs.gar.efp@noaa.gov. Include in the subject line “ME DMR Compensation Fishing EFP.”

FOR FURTHER INFORMATION CONTACT: Shannah Jaburek, Fisheries Management Specialist, 978-282-8456.

SUPPLEMENTARY INFORMATION: Maine Department of Marine Resources (ME DMR) submitted a complete application for an Exempted Fishing Permit (EFP) on December 23, 2020, requesting an exemption for vessels with Federal Northern Gulf of Maine (NGOM) permits fishing under their 2020 Scallop Research Set-Aside (RSA) Letters of Authorization to fish their allocation outside of the NGOM management area. Under the Scallop RSA program, projects are awarded a set amount of pounds of scallops for vessels to harvest that pays for the research component of the project. Compensation fishing under the Scallop RSA Program is not restricted to the NGOM management area; however, vessels with a NGOM scallop permit are restricted to only fishing for and possessing scallops within this area.

ME DMR needs this exemption in order to provide vessels the most flexibility to harvest all of the pounds it was allocated under the Scallop RSA Program. Allowing the exemption would not create additional fishing pressure in other areas because it is already assumed that vessels participating in compensation fishing have access to any areas that are allowed under Framework Adjustment 32 to the Atlantic Sea Scallop Fishery Management Plan. This EFP would be valid through the 2020 Scallop RSA compensation fishing season and must be used in conjunction with a valid compensation fishing Letter of Authorization. All compensation fishing trips would otherwise be consistent with normal compensation fishing activity and catch would be retained for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 4, 2021.
Jennifer M. Wallace,
Acting Director, Office of Sustainable Fisheries, National Marine Fisheries Service.

[FR Doc. 2021-04908 Filed 3-9-21; 8:45 am]

BILLING CODE 3510-22-P